DEPARTMENT OF THE INTERIOR

Bureau of Land Management

[ID-933-1430-00; GPO-03-0002; IDI-07702]

Expiration of Public Land Order; Idaho

AGENCY: Bureau of Land Management, Interior.

ACTION: Notice.

SUMMARY: Public Land Order No. 5734 which withdrew national forest system lands from the mining laws for use as a campground in the Boise National Forest was allowed to expire on July 20, 2002 in Valley County, Idaho.

EFFECTIVE DATE: May 19, 2003.

FOR FURTHER INFORMATION CONTACT: Jackie Simmons, BLM Idaho State Office, 1387 S. Vinnell Way, Boise, Idaho 83709, 208-373-3867.

SUPPLEMENTARY INFORMATION: Public Land Order No. 5734, published in the Federal Register, 45 FR 48629, dated July 21, 1980, as FR Doc. 80-21731, for the Boise National Forest, withdrew 20 acres of national forest lands from the mining laws for use as a campground has been allowed to expire.

1. At 9 a.m. on May 19, 2003, the segregative effect for the Federal interests in the above mentioned PLO, is lifted, and the land opened to such forms of disposition as may by law be made of forest system lands, subject to valid existing rights, the provisions of existing withdrawals, other segregations of record, and the requirements of applicable law.

Don Dunn,
Acting Branch Chief for Lands and Minerals.

[FR Doc. 03-9371 Filed 4-16-03; 8:45 am]

BILLING CODE 4310-GG-P